DEPARTMENT OF DEFENSE

Department of the Navy

Notice of Intent To Grant Exclusive Patent License; Vedevo Corporation

AGENCY: Department of the Navy, DoD.

ACTION: Notice; correction.

SUMMARY: The Department of the Navy published a document in the Federal Register of December 3, 2018, announcing its intent to grant to Vedevo, Inc. (Capitola, CA) a revocable, nonassignable, exclusive license. The notice is being corrected to reflect the company's change of name, state of incorporation, and fields of use.

FOR FURTHER INFORMATION CONTACT: Ms. Deborah Buettner, Director, Research and Sponsored Programs Office, NPS Code 41, 699 Dyer Road, Bldg. HA, Room 226, Monterey, CA 93943, telephone 831-656-7893.

SUPPLEMENTARY INFORMATION:

Correction

In the Federal Register of December 3, 2018, in FR Doc. 2018-26212, on page 62311, in the second column, correct the “Summary” caption to read:

SUMMARY: The Department of the Navy hereby gives notice of its intent to grant to Vedevo Corporation (Delaware) a revocable, nonassignable, exclusive license to practice in all fields of use, the Government-Owned invention described in U.S. Patent No. 8,526,746 issued September 3, 2013 titled “NEAR-LOSSLESS DATA COMPRESSION METHOD USING NONUNIFORM SAMPLING.”

DATES: Anyone wishing to object to the grant of this license must file written objections along with supporting evidence, if any, within 15 days from the date of this publication.

(Authority: 35 U.S.C. 209(e); 37 CFR 404.7)

Dated: April 17, 2019.
Meredith Steingold Werner,
Commander, Judge Advocate General's Corps, U.S. Navy, Federal Register Liaison Officer.

[FR Doc. 2019-08025 Filed 4-19-19; 8:45 am]

BILLING CODE 3810-FF-P